DEPARTMENT OF COMMERCE

National Oceanic and Atmospheric Administration

[I.D. 120604A]

Marine Mammals; File No. 87-1593

AGENCY: National Marine Fisheries Service (NMFS), National Oceanic and Atmospheric Administration (NOAA), Commerce.

ACTION: Issuance of permit amendment.

SUMMARY: Notice is hereby given that Daniel Costa, Ph.D., University of California, Santa Cruz, Long Marine Lab, 100 Shaffer Road, Santa Cruz, CA 95060, has been issued an amendment to Permit No. 87-1593 conduct scientific research on southern elephant seals (Mirounga leonina).

ADDRESSES: The permit and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Amy Sloan or Ruth Johnson, (301)713-2289.

SUPPLEMENTARY INFORMATION: On July 15, 2004, notice was published in the Federal Register (69 FR 42424) that a request for a permit amendment to take the species identified above had been submitted by the above-named individual. The requested amendment has been issued under the authority of the Marine Mammal Protection Act of 1972, as amended (16 U.S.C. 1361 et seq.), and the Regulations Governing the Taking and Importing of Marine Mammals (50 CFR part 216).

The permit holder is authorized to capture, sedate, tag (flipper and instrument), sample, and release up to 30 adult southern elephant seals; tag and weigh up to 50 immature elephant seals; conduct population censussing; and incidentally disturb up to 100 elephant seals during research. The purpose of this project is to examine the foraging behavior and habitat utilization of the southern elephant seal in the Western Antarctic Peninsula.

In compliance with the National Environmental Policy Act of 1969 (42 U.S.C. 4321 et seq.), a final determination has been made that the activity proposed is categorically excluded from the requirement to prepare an environmental assessment or environmental impact statement.

Dated: December 8, 2004.
Stephen L. Leathery,
Chief, Permits, Conservation and Education Division, Office of Protected Resources, National Marine Fisheries Service.

[FR Doc. 04-27431 Filed 12-14-04; 8:45 am]

BILLING CODE 3510-22-S